DEPARTMENT OF COMMERCE

International Trade Administration

[A-583-867]

Common Alloy Aluminum Sheet From Taiwan: Rescission of Antidumping Duty Administrative Review; 2020-2022

AGENCY: Enforcement and Compliance, International Trade Administration, Department of Commerce.

SUMMARY: The U.S. Department of Commerce (Commerce) is rescinding the administrative review of the antidumping duty order on common alloy aluminum sheet (CAAS) from Taiwan, covering the period of review (POR) October 15, 2020, through March 31, 2022.

DATES: Applicable May 3, 2023.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On April 1, 2022, Commerce published in the Federal Register a notice of opportunity to request an administrative review of the antidumping duty order on CAAS from Taiwan, covering the POR.¹ On May 2, 2022, C.S. Aluminium Corporation (CSAC) timely requested that Commerce conduct an administrative review of CSAC.² On May 2, 2022, the petitioners ³ also requested that Commerce conduct an administrative review of CSAC.⁴ On July 14, 2022, Commerce published in the Federal Register a notice of initiation of an administrative review with respect to CSAC in accordance with section 751(a) of the Tariff Act of 1930, as amended (the Act).⁵

¹ See Antidumping or Countervailing Duty Order, Finding, or Suspended Investigation; Opportunity to Request Administrative Review and Join Annual Inquiry Service List, 87 FR 19075 (April 1, 2022).

² See CSAC's Letter, “Request for Administrative Review,” dated May 2, 2022.

³ The petitioners are the: Aluminum Association Common Alloy Aluminum Sheet Trade Enforcement Working group and its individual members, Arconic Corporation; Commonwealth Rolled Products Inc.; Constellium Rolled Products Ravenswood, LLC; JW Aluminum Company; Novelis Corporation; and Texarkana Aluminum Inc. (collectively, the petitioners).

⁴ See Petitioners' Letter, “Petitioners' Request for Initiation of First Administrative Review,” dated May 2, 2022.

⁵ See Initiation of Antidumping and Countervailing Duty Administrative Reviews, 87 FR 42144 (July 14, 2022) (Initiation Notice).

On February 17, 2023, Commerce issued a memorandum stating its intent to rescind the administrative review of the antidumping duty order on CAAS

from Taiwan.⁶ For a history of events that have occurred since the issuance of the Intent to Rescind Review, see the Issues and Decision Memorandum.⁷

⁶ See Memorandum, “Intent to Rescind Review,” dated February 17, 2023 (Intent to Rescind Review).

⁷ See Memorandum, “Issues and Decision Memorandum for the Rescission of the Antidumping Duty Administrative Review: Common Alloy Aluminum Sheet from Taiwan; 2020-2022,” dated concurrently with, and hereby adopted by, this notice (Issues and Decision Memorandum).

Scope of the Order

The products covered by the order are CAAS. For a complete description of the scope of the order, see the Issues and Decision Memorandum.

Analysis of Comments Received

Commerce addressed the issue raised in the case and rebuttal briefs in the Issues and Decision Memorandum. This issue is identified in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Rescission of Review

Pursuant to 19 CFR 351.213(d)(3), it is Commerce's practice to rescind an administrative review of an antidumping duty order where it concludes there were no suspended entries of subject merchandise during the POR for an exporter or producer. Normally, upon completion of an administrative review, the suspended entries are liquidated at the antidumping duty assessment rate(s) based on the final results for the review period. Therefore, for an administrative review to be conducted, there must be a suspended entry that Commerce can instruct U.S. Customs and Border Protection to liquidate at the calculated antidumping duty assessment rate for the review period. As explained in detail in the Issues and Decision Memorandum, there were no suspended entries of subject merchandise from CSAC during the POR. Accordingly, in the absence of suspended entries of subject merchandise during the POR, we are rescinding this administrative review in accordance with 19 CFR 351.213(d)(3).

Cash Deposit Requirements

As Commerce is rescinding this administrative review, cash deposit rates will not change. Accordingly, the current cash deposit requirements shall remain in effect until further notice.

Administrative Protective Order

This notice also serves as a reminder to parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

This notice is published in accordance with section 751 of the Act and 19 CFR 351.213(d)(4).

Dated: April 26, 2023.
James Maeder,
Deputy Assistant Secretary for Antidumping and Countervailing Duty Operations.

Appendix

List of Topics Discussed in the Issues and Decision Memorandum

I. Summary

II. Background

III. Scope of the Order

IV. Discussion of the Issue Comment: Rescission of the Administrative Review

V. Recommendation

[FR Doc. 2023-09392 Filed 5-2-23; 8:45 am]

BILLING CODE 3510-DS-P